DEPARTMENT OF COMMERCE

National Oceanic and Atmospheric Administration

RIN 0648-XD580

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Advisory Panel to consider actions affecting New England fisheries in the exclusive economic zone (EEZ). Recommendations from this group will be brought to the full Council for formal consideration and action, if appropriate.

DATES: This meeting will be held on Thursday, November 13, 2014 at 9 a.m.

ADDRESSES: Meeting address: The meeting will be held at the Four Points Sheraton, 407 Squire Road, Revere, MA 02151; telephone: (781) 284-7200; fax: (781) 289-3176.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Advisory Panel will review Framework 26 analyses and make final recommendations for preferred alternatives. Framework 26 includes fishery specifications for FY2015 and FY2016 (default), which includes days-at-sea allocations, access area allocations, individual fishing quota (IFQ) allocations for the general category fishery, a hard total allowable catch (TAC) for the Northern Gulf of Maine (NGOM) area and target TAC for vessels with a general category incidental catch permit. The Advisory Panel will also make final recommendations on other measures being considered: (1) Measures to allow fishing in state waters after federal NGOM TAC is reached; (2) measures to make turtle regulations consistent in the scallop fishery and slight modification to regulations related to the flaring bar of the turtle deflector dredge; (3) measures to modify the existing area closure accountability measures in place for Georges Bank and Southern New England/Mid-Atlantic yellowtail flounder, and develop new accountability measures for northern windowpane flounder; and (4) consider measures to allow limited access scallop vessels to declare out of the fishery when steaming back to port. Other issues may be discussed.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: October 23, 2014.
Tracey L. Thompson,
Acting Deputy Director, Office of Sustainable Fisheries, National Marine Fisheries Service.

[FR Doc. 2014-25605 Filed 10-27-14; 8:45 am]

BILLING CODE 3510-22-P